DEPARTMENT OF THE TREASURY

Submission for OMB Review; Comment Request

AGENCY: Department of the Treasury.

ACTION: Notice.

SUMMARY: The Department of the Treasury will submit the following information collection requests to the Office of Management and Budget (OMB) for review and clearance in accordance with the Paperwork Reduction Act of 1995, Public Law 104-13, on or after the date of publication of this notice.

DATES: Comments should be received on or before November 30, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov or viewing the entire information collection request at www.reginfo.gov.

SUPPLEMENTARY INFORMATION:

Bureau of the Fiscal Service (FS)

OMB Number: 1530-0003.

Type of Review: Extension without change of a currently approved collection.

Title: Notice of Reclamation.

Form: FMS-133.

Abstract: A program agency authorizes Treasury to recover payments that have been issued after the death of the beneficiary. FMS Form 133 is used to notify the financial institution. If the financial institution does not respond to the FMS-133, a debit request (Form 135) is sent to the Federal Reserve Bank.

Affected Public: Private Sector: Businesses or other for-profits.

Estimated Annual Burden Hours: 29,750.

OMB Number: 1530-0004.

Type of Review: Extension without change of a currently approved collection.

Title: Claims Against the U.S. for Amounts Due in Case of a Deceased Creditor.

Form: SF 1055.

Abstract: This form is required to determine who is entitled to funds of a deceased Postal Savings depositor or deceased award holder. The form properly completed with supporting documents enables this office to decide who is legally entitled to payment.

Affected Public: Individuals or Households.

Estimated Annual Burden Hours: 180.

OMB Number: 1530-0009.

Type of Review: Extension without change of a currently approved collection.

Title: States Where Licensed for Surety.

Form: FMS 2208; FS 2208.

Abstract: Information collected from insurance companies provides Federal bond approving officers with a listing of states, by company, in which they are licensed to write Federal bonds. This information appears in Treasury's Circular 570.

Affected Public: Private Sector: Businesses or other for-profits.

Estimated Annual Burden Hours: 262.

OMB Number: 1530-0017.

Type of Review: Extension without change of a currently approved collection.

Title: Resolution Authorizing Execution of Depositary, Financial Agency, and Collateral Agreement; and Depositary, Financial Agency, and Collateral Agreement.

Form: FS Form 5902; 5903.

Abstract: These forms are used to give authority to financial institutions to become a depositary of the Federal Government. They also execute an agreement from the financial institutions they are authorized to pledge collateral to secure public funds with Federal Reserve Banks or their designees.

Affected Public: Private Sector: Businesses or other for-profits.

Estimated Annual Burden Hours: 8.

OMB Number: 1530-0032.

Type of Review: Extension without change of a currently approved collection.

Title: Application for disposition of Retirement Plan/Individual Retirement Bonds Without Administration of Deceased Owners Estate.

Form: FS Form 3565.

Abstract: Used by heirs of deceased owners of Retirement Plan and/or Individual Retirement Bonds to request disposition.

Affected Public: Individuals or Households.

Estimated Annual Burden Hours: 117.

Dated: October 27, 2015.
Dawn D. Wolfgang,
Treasury PRA Clearance Officer.

[FR Doc. 2015-27662 Filed 10-29-15; 8:45 am]

BILLING CODE 4810-AS-P